DEPARTMENT OF COMMERCE

International Trade Administration

[A-570-934]

1-Hydroxyethylidene-1, 1-Diphosphonic Acid From the People's Republic of China: Preliminary Results of Antidumping Duty Administrative Review and Intent To Rescind Review in Part

AGENCY: Import Administration, International Trade Administration, Department of Commerce.

SUMMARY: In response to a timely request from Compass Chemical International LLC (“Petitioner”), the Department of Commerce (“Department”) is conducting an administrative review of the antidumping duty order on 1-hydroxyethylidene-1, 1-diphosphonic acid (“HEDP”) from the People's Republic of China (“PRC”). The period of review (“POR”) is April 23, 2009, through March 31, 2010. This administrative review covers two exporters of the subject merchandise that are being individually examined as mandatory respondents.

The Department has preliminarily determined that one mandatory respondent, Jiangsu Jianghai Chemical Group Co., Ltd. (“Jiangsu Jianghai”), did not demonstrate that it is entitled to a separate rate. Therefore, the Department has treated Jiangsu Jianghai as part of the PRC-wide entity. The other mandatory respondent, Changzhou Wujin Fine Chemical Factory Co., Ltd. (“Wujin Fine”), reported that it did not ship subject merchandise to the United States during the POR. Because record evidence does not contradict Wujin Fine's no-shipment claim, the Department intends to rescind the administrative review with respect to this company. If these preliminary results are adopted in the final results of review, the Department will instruct U.S. Customs and Border Protection (“CBP”) to assess antidumping duties on entries of subject merchandise during the POR for which the importer-specific assessment rates are above de minimis.

Interested parties are invited to comment on these preliminary results. Parties that submit comments are requested to submit with each argument a statement of the issue and a brief summary of the argument. The Department intends to issue the final results of this review no later than 120 days from the date of publication of this notice.

DATES: Effective Date: April 7, 2011.

FOR FURTHER INFORMATION CONTACT: Shawn Higgins, AD/CVD Operations, Office 4, Import Administration, International Trade Administration, U.S. Department of Commerce, 14th Street and Constitution Avenue, NW., Washington, DC 20230; telephone: (202) 482-0679.

SUPPLEMENTARY INFORMATION:

Background

On April 28, 2009, the Department published the antidumping duty order on HEDP from the PRC in the Federal Register.¹ On April 1, 2010, the Department notified interested parties of their opportunity to request an administrative review of the antidumping duty order on HEDP from the PRC.² On April 30, 2010, Petitioner requested that the Department conduct an administrative review of Jiangsu Jianghai and Wujin Fine.³ On May 28, 2010, the Department published a notice initiating an antidumping duty administrative review of the Order covering Jiangsu Jianghai and Wujin Fine during the period April 23, 2009, through March 31, 2010.⁴

¹ See 1-Hydroxyethylidene-1, 1-Diphosphonic Acid from India and the People's Republic of China: Antidumping Duty Orders, 74 FR 19197 (April 28, 2009) (“Order”).

² See Antidumping or Countervailing Duty Order, Finding, or Suspended Investigation; Opportunity To Request Administrative Review, 75 FR 16426 (April 1, 2010).

³ See Letter from Petitioner to the Secretary of Commerce, “1-Hydroxyethylidene-1, 1-Diphosphonic Acid (HEDP) from The People's Republic of China (PRC): Request for Administrative Review” (April 30, 2010).

⁴ See Initiation of Antidumping and Countervailing Duty Administrative Reviews, 75 FR 29976 (May 28, 2010) (“Initiation Notice”).

The Initiation Notice notified parties that they must submit timely separate rate applications or separate rate certifications in order to qualify for a separate rate.⁵ The Department did not receive any separate rate applications or separate rate certifications.

⁵ Id., 75 FR at 29976-77.

On June 7, 2010, the Department issued antidumping questionnaires to Jiangsu Jianghai and Wujin Fine.⁶ In June and July 2010, Jiangsu Jianghai and Wujin Fine submitted letters certifying that they did not ship subject merchandise to the United States during the POR.⁷ From July through September 2010, the Department requested and received import data and entry documentation from CBP. The Department placed this information on the record of this review and solicited comments from interested parties.⁸ Petitioner, Jiangsu Jianghai, and Wujin Fine submitted comments on this import data and entry documentation in August and October 2010.⁹ On October 25, 2010, the Department informed Jiangsu Jianghai that record CBP data and entry documentation indicated that Jiangsu Jianghai had a shipment of subject merchandise that entered the United States during the POR.¹⁰ Further, the Department explained that it is necessary for Jiangsu Jianghai to provide the information requested by the Department in the antidumping questionnaire because the entry date of Jiangsu Jianghai's shipment was within the POR and there is no record evidence in this review of circumstances that compel the Department to employ an atypical methodology to determine the universe of sales to be examined during this review.¹¹

⁶ See, e.g., Letter from Robert Bolling, Program Manager, AD/CVD Operations, Office 4, to Jiangsu Jianghai, “1-Hydroxyethylidene-1, 1-Diphosphonic Acid from the People's Republic of China: Antidumping Duty Administrative Review of Jiangsu Jianghai Chemical Group Co., Ltd.” (June 7, 2010) (“antidumping questionnaire”).

⁷ See Letter from Jiangsu Jianghai to the Secretary of Commerce, “1-Hydroxyethylidene-1, 1-Diphosphonic Acid from the Republic of India and the People's Republic of China; A-570-934; Copy of Certification of No Shipments by Jiangsu Jianghai Chemical Group Co., Ltd.” (July 13, 2010); Letter from Wujin Fine to the Secretary of Commerce, “1-Hydroxyethylidene-1, 1-Diphosphonic Acid from the Republic of India and the People's Republic of China; A-570-934; Notification by Changzhou Wujin Fine Chemical Factory Co., Ltd.” (June 28, 2010).

⁸ See Memorandum from Shawn Higgins, International Trade Compliance Analyst, AD/CVD Operations, Office 4, to Interested Parties, “2009-2010 Administrative Review of 1-Hydroxyethylidene-1, 1-Diphosphonic Acid from the People's Republic of China; Placing CBP Data and Entry Documents on the Record” (August 13, 2010); Memorandum from Shawn Higgins, International Trade Compliance Analyst, AD/CVD Operations, Office 4, to Interested Parties, “2009-2010 Administrative Review of 1-Hydroxyethylidene-1, 1-Diphosphonic Acid from the People's Republic of China; Placing CBP Data and Entry Documents on the Record” (September 24, 2010) (“CBP Data and Entry Documents”).

⁹ See Letter from Jiangsu Jianghai to the Secretary of Commerce, “1-Hydroxyethyidene-1, 1-Diphosphonic Acid from the Republic of India and the People's Republic of China; A-570-934; Comments on Customs and Border Protection Data by Jiangsu Jianghai Chemical Group Co., Ltd.” (August 19, 2010); Letter from Wujin Fine to the Secretary of Commerce, “1-Hydroxyethyidene-1, 1-Diphosphonic Acid from the Republic of India and the People's Republic of China; A-570-934; Comments on Customs and Border Protection Data by Changzhou Wujin Fine Chemical Factory Co., Ltd.” (August 19, 2010); Letter from Jiangsu Jianghai to the Secretary of Commerce, “1-Hydroxyethyidene-1, 1-Diphosphonic Acid from the Republic of India and the People's Republic of China; A-570-934; Comments on Customs and Border Protection Data by Jiangsu Jianghai Chemical Group Co., Ltd.” (October 4, 2010); Letter from Petitioner to the Secretary of Commerce, “1-Hydroxyethidene-1, 1-Diphosphonic Acid from the People's Republic of China” (October 4, 2010).

¹⁰ See Letter from Robert Bolling, Program Manager, AD/CVD Operations, Office 4, to Jiangsu Jianghai, “1-Hydroxyethylidene-1, 1-Diphosphonic Acid from the People's Republic of China: Antidumping Duty Administrative Review of Jiangsu Jianghai Chemical Group Co., Ltd.” (October 25, 2010) (“Shipment Letter”) at 2.

¹¹ Id.

In November and December 2010, Jiangsu Jianghai submitted timely responses to Sections A, C, and D of the antidumping questionnaire.¹² The Department issued a supplementary Sections A and C questionnaire and a supplementary Section D questionnaire to Jiangsu Jianghai on December 9, 2010, and December 17, 2010, respectively.¹³ Jiangsu Jianghai neither responded to these supplementary questionnaires nor asked for extensions of time to respond.¹⁴

¹² See Memorandum from Jiangsu Jianghai to the Secretary of Commerce, “1-Hydroxyethylidene-1, 1-Diphosphonic Acid from the Republic of India and the People's Republic of China; A-570-934; Section A Response” (November 19, 2010) (“Section A Response”); Memorandum from Jiangsu Jianghai to the Secretary of Commerce, “1-Hydroxyethylidene-1, 1-Diphosphonic Acid from the Republic of India and the People's Republic of China; A-570-934; Section C Response” (December 1, 2010); Memorandum from Jiangsu Jianghai to the Secretary of Commerce, “1-Hydroxyethylidene-1, 1-Diphosphonic Acid from the Republic of India and the People's Republic of China; A-570-934; Section D Response of Jiangsu Jianghai Chemical Group Co., Ltd.” (December 9, 2010).

¹³ See Letter from Robert Bolling, Program Manager, AD/CVD Operations, Office 4, to Jiangsu Jianghai, “Sections A & C Supplemental Questionnaire” (December 9, 2010) (“Sections A & C Supplemental”); Letter from Robert Bolling, Program Manager, AD/CVD Operations, Office 4, to Jiangsu Jianghai, “Section D Supplemental Questionnaire” (December 17, 2010).

¹⁴ See Memorandum from Shawn Higgins, International Trade Compliance Analyst, AD/CVD Operations, Office 4, to the File, “Administrative Review of the Antidumping Duty Order on 1-Hydroxyethylidene-1, 1-Diphosphonic Acid from the People's Republic of China: Telephone Conversation With Counsel for Jiangsu Jianghai Chemical Group Co., Ltd.” (January 3, 2011) (“Telephone Conversation Memo”).

In response to the Department's November 12, 2010, letter providing all interested parties with an opportunity to submit comments regarding surrogate country and surrogate value selection,¹⁵ Petitioner filed surrogate country and surrogate value comments in November and December 2010.¹⁶

¹⁵ See Letter from Robert Bolling, Program Manager, AD/CVD Operations, Office 4, to All Interested Parties, “Administrative Review of the Antidumping Duty Order on 1-Hydroxyethylidene-1, 1-Diphosphonic Acid from the People's Republic of China: Request for Comments on Selection of Surrogate Country and Surrogate Values” (November 12, 2010).

¹⁶ See Letter from Petitioner to the Secretary of Commerce, “1-Hydroxyethylidene-1, 1-Diphosphonic Acid from the People's Republic of China” (November 30, 2010); Letter from Petitioner to the Secretary of Commerce, “1-Hydroxyethylidene-1, 1-Diphosphonic Acid from the People's Republic of China” (December 16, 2010).

On December 1, 2010, the Department extended the time period for completing the preliminary results of this administrative review until March 31, 2011.¹⁷

¹⁷ See 1-Hydroxyethylidene-1, 1-Diphosphonic Acid From the People's Republic of China: Extension of the Time Limit for the Preliminary Results of the Antidumping Duty Administrative Review, 75 FR 74684 (December 1, 2010).

Scope of the Order

The merchandise subject to the order includes all grades of aqueous, acidic (non-neutralized) concentrations of 1-hydroxyethylidene-1, 1-diphosphonic acid,¹⁸ also referred to as hydroxethlylidenediphosphonic acid, hydroxyethanediphosphonic acid, acetodiphosphonic acid, and etidronic acid. The CAS (Chemical Abstract Service) registry number for HEDP is 2809-21-4. The merchandise subject to the order is currently classified in the Harmonized Tariff Schedule of the United States (“HTSUS”) at subheading 2931.00.9043. It may also enter under HTSUS subheading 2811.19.6090. While HTSUS subheadings are provided for convenience and customs purposes only, the written description of the scope of the order is dispositive.

¹⁸ C2H8O7P2 or C(CH3)(OH)(PO3H2)2.

Intent To Partially Rescind the Administrative Review

As stated above, Jiangsu Jianghai and Wujin Fine submitted letters certifying that they did not ship subject merchandise to the United States during the POR. To test these claims, the Department ran a CBP data query, issued no-shipment inquiries to CBP requesting that it provide any information that contradicted these no-shipment claims, and obtained entry documentation from CBP. After examining this information, the Department has preliminarily determined that Jiangsu Jianghai had a shipment of subject merchandise that entered the United States during the POR.¹⁹ However, because the evidence on the record does not contradict Wujin Fine's no-shipment claim, the Department intends to rescind this administrative review with respect to Wujin Fine, pursuant to 19 CFR 351.213(d)(3).

¹⁹ See Shipment Letter at 2.

Non-Market Economy Country Status

In every case conducted by the Department involving the PRC, the PRC has been treated as a non-market economy (“NME”) country. In accordance with section 771(18)(C)(i) of the Tariff Act of 1930, as amended (the “Act”), any determination that a foreign country is an NME country shall remain in effect until revoked by the administering authority. None of the parties to this proceeding have contested NME treatment.

Separate Rates

In proceedings involving NME countries, the Department maintains a rebuttable presumption that all companies within the country are subject to government control.²⁰ In accordance with this presumption, all exporters of subject merchandise in an NME country are assigned a single rate unless an exporter can affirmatively demonstrate its entitlement to a separate, company-specific margin by showing an absence of government control, both in law and in fact, with respect to export activities.²¹ To determine whether de jure government control exists, the Department examines evidence of: (1) An absence of restrictive stipulations associated with an individual exporter's business and export license; (2) any legislative enactments decentralizing control of companies; or (3) any other formal measures by the government decentralizing control of companies.²² Evidence supporting de facto absence of government control includes: (1) Whether each exporter sets its own export prices independently of the government; (2) whether each exporter has the authority to negotiate and sign contracts and other agreements; (3) whether each exporter has autonomy from the government in making decisions regarding the selection of management; and (4) whether each exporter can retain the proceeds from its export sales and make independent decisions regarding disposition of profits or financing of losses.²³

²⁰ See Sigma Corp. v. United States, 117 F.3d 1401, 1405-06 (Fed. Cir. 1997).

²¹ Id., 117 F.3d at 1405.

²² See Final Determination of Sales at Less Than Fair Value: Sparklers From the People's Republic of China, 56 FR 20588, 20589 (May 6, 1991) (“Sparklers”); Qingdao Taifa Group Co., Ltd. v. United States, 710 F. Supp. 2d 1352, 1355-56 (Ct. Int'l Trade 2010) (“Qingdao Taifa”) (citing Coal. for the Pres. of Am. Brake Drum and Rotor Aftermarket Mfrs. v. United States, 44 F. Supp. 2d 229, 242 (Ct. Int'l Trade 1999) (“Brake Drum”)).

²³ See Notice of Final Determination of Sales at Less Than Fair Value: Silicon Carbide From the People's Republic of China, 59 FR 22585, 22586-87 (May 2, 1994) (“Silicon Carbide,”); Qingdao Taifa, 710 F. Supp. 2d at 1356 (citing Brake Drum, 44 F. Supp. 2d at 243).

On November 19, 2010, Jiangsu Jianghai submitted its response to Section A of the antidumping questionnaire.²⁴ Jiangsu Jianghai's submission was incomplete and contained information insufficient to overcome the presumption that Jiangsu Jianghai's export activities are controlled, in law and in fact, by the PRC government. On December 9, 2010, the Department issued Jiangsu Jianghai a supplementary questionnaire that requested Jiangsu Jianghai to correct these deficiencies and provide additional information necessary to determine whether it qualified for a separate rate.²⁵ On January 3, 2011, the Department received confirmation that Jiangsu Jianghai would not provide the Department with the information requested in the December 9, 2010 supplementary questionnaire.²⁶ Therefore, by submitting incomplete and unverifiable responses to questions regarding government control of its export activities and not responding to the Department's supplementary questionnaire, Jiangsu Jianghai has prevented the Department from further investigating the facts related to the question of government control and failed to demonstrate an absence of de jure and de facto government control under the criteria identified in Sparklers and Silicon Carbide.

²⁴ See Section A Response.

²⁵ See Sections A & C Supplemental at Enclosure 1-3.

²⁶ See Telephone Conversation Memo.

Moreover, by submitting incomplete and unverifiable responses to the antidumping questionnaire and not responding to either the Department's December 9, 2010, supplementary Sections A and C questionnaire or its December 17, 2010, supplementary Section D questionnaire, Jiangsu Jianghai did not meet its requirement to fully participate in this administrative review by responding to all information that has been requested by the Department.²⁷ The Department does not permit respondents to selectively choose which requests to respond to or which information to submit.²⁸ Jiangsu Jianghai cannot qualify for separate rate status by participating in only limited aspects of this review while simultaneously failing to provide complete and verifiable data with respect to other required elements.²⁹

²⁷ See antidumping questionnaire at G-1 (“[A]s a respondent, your company must wholly and fully participate in this administrative review. * * * a respondent must respond to all information that has been requested by the Department”); Wooden Bedroom Furniture from the People's Republic of China: Final Results of Antidumping Duty Administrative Review and New Shipper Reviews, 74 FR 41374 (August 17, 2009) (“Furniture”) and accompanying Issues and Decision Memorandum at Comment 32.

²⁸ See antidumping questionnaire at G-1.

²⁹ See Furniture, and accompanying Issues and Decision Memorandum at Comment 32; see also antidumping questionnaire at G-1.

Therefore, the Department has preliminarily determined that Jiangsu Jianghai does not qualify for a separate rate because it has failed to demonstrate an absence of de jure and de facto government control under the criteria identified in Sparklers and Silicon Carbide and did not fully participate in this administrative review. Accordingly, the Department is treating Jiangsu Jianghai as part of the PRC-wide entity. Moreover, because Jiangsu Jianghai's responses to the antidumping questionnaire cannot be verified and Jiangsu Jianghai did not remedy the deficiencies noted in the Department's supplementary questionnaires, the Department has, in accordance with sections 782(d) and (e) of the Act, preliminarily determined to disregard all of Jiangsu Jianghai's responses to the antidumping questionnaire.

Use of Facts Available and Adverse Facts Available (“AFA”)

Section 776(a) of the Act provides that the Department shall apply “facts otherwise available” if: (1) Necessary information is not on the record, or (2) an interested party or any other person (A) withholds information that has been requested, (B) fails to provide information within the deadlines established, or in the form and manner requested by the Department, subject to subsections (c)(1) and (e) of section 782 of the Act, (C) significantly impedes a proceeding, or (D) provides information that cannot be verified as provided by section 782(i) of the Act.

Further, Section 776(b) of the Act provides that the Department may use an adverse inference in applying the facts otherwise available when a party has failed to cooperate by not acting to the best of its ability to comply with a request for information. Such an adverse inference may include reliance on information derived from the petition, the final determination, a previous administrative review, or other information placed on the record.

Application of Total AFA to the PRC-Wide Entity

In the Initiation Notice, the Department stated that if one of the companies for which this review was initiated “does not qualify for a separate rate, all other exporters of {HEDP from the PRC} that have not qualified for a separate rate are deemed to be covered by this review as part of the single PRC entity. * * * ” As noted above, Jiangsu Jianghai, one of the companies for which this review was initiated, has not qualified for a separate rate. Therefore, the PRC-wide entity is now under review.

As explained above, Jiangsu Jianghai, as part of the PRC-wide entity, submitted incomplete and unverifiable responses to the antidumping questionnaire and did not respond to either the Department's December 9, 2010, supplementary Sections A and C questionnaire or its December 17, 2010 supplementary Section D questionnaire. For these reasons, the Department has preliminarily determined that the PRC-wide entity (1) withheld information that was requested, (2) failed to provide information within the deadlines established and in the form and manner requested by the Department, (3) significantly impeded this proceeding, and (4) provided information that cannot be verified. Therefore, in accordance with subsections 776(a)(2)(A) through (D) of the Act, the Department has preliminarily based the dumping margin of the PRC-wide entity on the facts otherwise available. Further, because the PRC-wide entity failed to cooperate by not acting to the best of its ability to comply with the Department's requests for information, the Department has preliminarily determined, pursuant to section 776(b) of the Act, to use an inference that is adverse to the interests of the PRC-wide entity in selecting from among the facts otherwise available.

Selection of the AFA Rate

Section 776(b) of the Act and 19 CFR 351.308(c)(1) provide that the Department's adverse inference “may include reliance on information derived from (1) the petition, (2) a final determination in the investigation, (3) any previous review or determination, or (4) any other information placed on the record.” In selecting a rate for use as AFA, the Department selects a rate that is sufficiently adverse “as to effectuate the purpose of the facts available rule to induce respondents to provide the Department with complete and accurate information in a timely manner.” ³⁰ Furthermore, it is the Department's practice to ensure “that the party does not obtain a more favorable result by failing to cooperate than if it had cooperated fully” ³¹ and to select “the highest rate on the record of the proceeding” ³² that can be corroborated, to the extent practicable.³³ Therefore, as AFA, the Department has preliminarily assigned the PRC-wide entity a dumping margin of 72.42 percent, which was the margin calculated in the petition, as adjusted by the Department for initiation, and is the highest dumping margin on the record of this proceeding.

³⁰ See Notice of Final Determination of Sales at Less Than Fair Value: Static Random Access Memory Semiconductors From Taiwan, 63 FR 8909, 8932 (February 23, 1998).

³¹ See Statement of Administrative Action accompanying the Uruguay Round Agreements Act, H. Doc. No. 316, 103d Cong., 2d Session at 870 (1994) (“SAA”); Brake Rotors From the People's Republic of China: Final Results and Partial Rescission of the Seventh Administrative Review; Final Results of the Eleventh New Shipper Review, 70 FR 69937, 69939 (November 18, 2005).

³² See Certain Frozen Warmwater Shrimp from Brazil: Final Results and Partial Rescission of Antidumping Duty Administrative Review, 73 FR 39940, 39942 (July 11, 2008).

³³ See Fujian Lianfu Forestry Co., Ltd. v. United States, 638 F. Supp. 2d 1325, 1336 (Ct. Int'l Trade 2009).

Corroboration of Secondary Information

Section 776(c) of the Act provides that, when the Department relies on secondary information rather than on information obtained in the course of an investigation or review, it shall, to the extent practicable, corroborate that information from independent sources that are reasonably at its disposal. Secondary information is defined as information derived from the petition that gave rise to the investigation or review, the final determination concerning the subject merchandise, or any previous review under section 751 of the Act concerning the subject merchandise.³⁴ “Corroborate” means that the Department will satisfy itself that the secondary information to be used has probative value.³⁵ To corroborate secondary information, the Department will, to the extent practicable, examine the reliability and relevance of the information to be used.³⁶ Independent sources used to corroborate such information may include, for example, published price lists, official import statistics and customs data, and information obtained from interested parties during the particular investigation or review.³⁷

³⁴ See SAA at 870.

³⁵ Id.

³⁶ See Tapered Roller Bearings and Parts Thereof, Finished and Unfinished From Japan, and Tapered Roller Bearings Four Inches or Less in Outside Diameter, and Components Thereof, From Japan; Preliminary Results of Antidumping Duty Administrative Reviews and Partial Termination of Administrative Reviews, 61 FR 57391, 57392 (November 6, 1996), unchanged in Tapered Roller Bearings and Parts Thereof, Finished and Unfinished From Japan, and Tapered Roller Bearings, Four Inches or Less in Outside Diameter, and Components Thereof, From Japan; Final Results of Antidumping Duty Administrative Reviews and Termination in Part, 62 FR 11825 (March 13, 1997).

³⁷ See Notice of Preliminary Determination of Sales at Less Than Fair Value: High and Ultra-High Voltage Ceramic Station Post Insulators from Japan, 68 FR 35627, 35629 (June 16, 2003), unchanged in Notice of Final Determination of Sales at Less Than Fair Value: High and Ultra-High Voltage Ceramic Station Post Insulators from Japan, 68 FR 62560 (November 5, 2003); Notice of Final Determination of Sales at Less Than Fair Value: Live Swine From Canada, 70 FR 12181, 12183-84 (March 11, 2005).

To corroborate the 72.42 percent petition rate, the Department first revisited its pre-initiation analysis of the information in the petition. During the initiation of the antidumping investigation of HEDP from the PRC, the Department examined evidence supporting the calculations in the petition and the supplemental information provided by Petitioner to determine the probative value of the margins alleged in the petition.³⁸ During the Department's pre-initiation analysis, it examined the information used as the basis of export price (“EP”) and normal value (“NV”) in the petition, and the calculations used to derive the alleged margins.³⁹ Also during its pre-initiation analysis, the Department examined information from various independent sources provided either in the petition or in supplements to the petition, which corroborated key elements of the EP and NV calculations.⁴⁰

³⁸ See 1-Hydroxyethylidene-1, 1-Diphosphonic Acid from the Republic of India and the People's Republic of China: Initiation of Antidumping Duty Investigations, 73 FR 20023, 20025-26 (April 14, 2008) (“Investigation Initiation”); 1-Hydroxyethylidene-1, 1-Diphosphonic Acid from the People's Republic of China: Final Determination of Sales at Less Than Fair Value, 74 FR 10545, 10547 (March 11, 2009) (“Final Determination”).

³⁹ See Investigation Initiation, 73 FR at 20025-26; Final Determination, 74 FR at 10547.

⁴⁰ See Final Determination, 74 FR at 10547.

To further corroborate the 72.42 percent petition rate, the Department examined the information on the record of this administrative review. Because the Department has, in accordance with section 782(d) of the Act, disregarded all of Jiangsu Jianghai's responses to the antidumping questionnaire, the Department preliminarily determined that the only information on the record of this administrative review that can be used for purposes of corroboration are the entry documents provided by CBP.⁴¹ These entry documents—particularly the commercial invoice for Jiangsu Jianghai's single entry of subject merchandise during the POR—establish that Jiangsu Jianghai's U.S. price approximates the U.S. price in the petition.⁴² Therefore, the Department has preliminarily determined that the U.S. price in the petition reflects commercial reality.

⁴¹ See CBP Data and Entry Documents at Attachment 1.

⁴² See Memorandum from Shawn Higgins, International Trade Compliance Analyst, AD/CVD Operations, Office 4, to the File, “1-Hydroxyethylidene-1, 1-Diphosphonic Acid from the People's Republic of China: Corroboration Memorandum for Preliminary Results of Administrative Review” (March 31, 2011).

For these reasons, the Department has preliminarily determined that the 72.42 percent petition rate has probative value and, therefore, is corroborated to the extent practicable, in accordance with section 776(c) of the Act. Moreover, because the information on the record of this administrative review that can be used for purposes of corroboration approximate the information used as a basis for the petition rate, the Department is satisfied that the 72.42 percent petition rate reflects commercial reality.

Preliminary Results of Review

The Department has preliminarily determined that the following weighted-average dumping margins exist for the period April 23, 2009, through March 31, 2010:

Exporter | Antidumping duty percent margin
PRC-Wide Entity ⁴³ | 72.42

Comments

Interested parties may submit written comments no later than 30 days after the date of publication of these preliminary results of review.⁴⁴ Rebuttal comments must be limited to the issues raised in the written comments and may be filed no later than 35 days after the date of publication.⁴⁵ Parties submitting written comments or rebuttal comments are requested to provide the Department with an additional copy of those comments on CD-ROM. Any interested party may request a hearing within 30 days of publication of these preliminary results.⁴⁶ Any hearing, if requested, ordinarily will be held two days after the scheduled date for submission of rebuttal briefs.⁴⁷ Parties should confirm by telephone the date, time, and location of the hearing two days before the scheduled date.

⁴³ Jiangsu Jianghai is part of the PRC-wide entity.

⁴⁴ See 19 CFR 351.309(c)(1)(ii).

⁴⁵ See 19 CFR 351.309(d).

⁴⁶ See 19 CFR 351.310(c).

⁴⁷ See 19 CFR 351.310(d).

The Department will issue the final results of this administrative review, which will include the results of its analysis of issues raised in the briefs, within 120 days of publication of these preliminary results, in accordance with 19 CFR 351.213(h)(1), unless the time limit is extended.

Assessment Rates

Pursuant to 19 CFR 351.212, the Department will determine, and CBP shall assess, antidumping duties on all appropriate entries of subject merchandise in accordance with the final results of this review. The Department intends to instruct CBP to liquidate entries containing subject merchandise exported by the PRC-wide entity at the PRC-wide rate the Department determines in the final results of this review. The Department intends to issue appropriate assessment instructions directly to CBP 15 days after publication of the final results of this review.

Cash Deposit Requirements

The following cash deposit requirements will be effective upon publication of the final results of this administrative review for all shipments of the subject merchandise from the PRC entered, or withdrawn from warehouse, for consumption on or after the publication date, as provided for by section 751(a)(2)(C) of the Act: (1) For previously investigated or reviewed PRC and non-PRC exporters not listed above that have separate rates, the cash deposit rate will continue to be the exporter-specific rate published for the most recent period; (2) for all PRC exporters of subject merchandise which have not been found to be entitled to a separate rate, the cash deposit rate will be the PRC-wide rate established in the final results of this review; and (3) for all non-PRC exporters of subject merchandise which have not received their own rate, the cash deposit rate will be the rate applicable to the PRC exporters that supplied that non-PRC exporter. These deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in the Secretary presuming that reimbursement of antidumping duties occurred and, subsequently, the assessment of double antidumping duties.

The Department is issuing and publishing these preliminary results of administrative review in accordance with sections 751(a)(1) and 777(i)(1) of the Act and 19 CFR 351.221(b)(4).

Dated: March 31, 2011.
Ronald K. Lorentzen,
Deputy Assistant Secretary for Import Administration.

[FR Doc. 2011-8347 Filed 4-6-11; 8:45 am]

BILLING CODE 3510-DS-P